DEPARTMENT OF THE TREASURY

Proposed Collection; Comment Request; Office of the Fiscal Assistant Secretary

AGENCY: Departmental Offices, Department of Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Office of the Fiscal Assistant Secretary (OFAS), within the Department of the Treasury, is soliciting comments concerning the Annual Performance Report and Certification for Section 1603.

DATES: Written comments must be received on or before March 26, 2013 to be assured of consideration.

ADDRESSES: Direct all written comments to the Department of the Treasury, Departmental Offices, OFAS, ATTN: Jean Whaley, 1500 Pennsylvania Avenue NW., Rm. 1050-S, Washington, DC 20220, (202) 622-0637; www.1603questions@treasury.gov.

FOR FURTHER INFORMATION CONTACT: Requests for additional information or copies of the form(s) and instructions should be directed to the Department of the Treasury, Departmental Offices, OFAS, ATTN: Jean Whaley, 1500 Pennsylvania Avenue NW., Rm. 1050-S, Washington, DC 20220, (202) 622-0637; www.1603questions@treasury.gov.

SUPPLEMENTARY INFORMATION: Title: Annual Performance Report and Certification for Section 1603: Payments for Specified Renewable Energy Property in Lieu of Tax Credits.

OMB Number: 1505-0221.

Abstract: Authorized under the American Recovery and Reinvestment Act (ARRA), of 2009 (Pub. L. 111-5), the Department of the Treasury is implementing several provisions of the Act, more specifically Division B—Tax, Unemployment, Health, State Fiscal Relief, and Other Provisions. Among these components is a program which requires Treasury, in lieu of a tax credit, to reimburse persons who place in service certain specified energy properties. The collection of information is necessary to properly monitor compliance with program requirements. Applicants for Section 1603 payments commit in the Terms and Conditions that are part of the application to submitting an annual report for five years from the date the energy property is placed in service. The information will be used to (1) determine whether payment recipients remain eligible, (2) determine that the amount of the 1603 payment remains allowable under applicable laws, (3) assess compliance with applicable laws, and (4) report on the effectiveness of the program.

Type of Review: Revision of a currently approved collection.

Affected Public: State, Local, and Tribal Governments.

Estimated Number of Annual Respondents: 150,000.

Estimated Hours per Response: 0.25.

Estimated Total Annual Burden Hours: 37,500.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: January 22, 2013.
Dawn D. Wolfgang,
Treasury PRA Clearance Officer.

[FR Doc. 2013-01569 Filed 1-24-13; 8:45 am]

BILLING CODE 4810-25-P